NATIONAL SCIENCE FOUNDATION

Special Emphasis Panel in Human Resource Development; Notice of Meeting

In accordance with the Federal Advisory Committee Act (Pub. L. 92-463, as amended), the National Science Foundation announces the following meeting:

Name: Special Emphasis Panel in Human Resource Development (#1199).

Date/Time: May 24 and 25, 2001 from 8:30 a.m. to 5 p.m.

Place: National Science Foundation, Stafford Place I—4201 Wilson Boulevard, Room 830, and Stafford Place II—Conference Center, 4121 Wilson Boulevard, Rooms 517, 565, 575, 585, Arlington, VA.

Type of Meeting: Closed.

Contact Person: Dr. Marilyn Suiter, Program Director, Human Resource Development Division, Room 815, National Science Foundation, 4201 Wilson Boulevard, Arlington, VA 22230 Telephone: (703) 292-5121.

Purpose of Meeting: To provide advice and recommendations concerning nominations submitted to NSF for financial support.

Agenda: To review and evaluate the Presidential Awards for Excellence in Science, Mathematics, & Engineering Mentoring nominations as part of the selection process for awards.

Reason for Closing: The nominations being reviewed include information of a proprietary or confidential nature, including technical information; financial data, such as salaries; and personal information concerning individuals associated with the nominations. These matters are exempt under 5 U.S.C. 552b(c), (4) and (6) of the Government in the Sunshine Act.

Dated: May 8, 2001.
Susanne Bolton,
Committee Management Officer.

[FR Doc. 01-11925 Filed 5-10-01; 8:45 am]

BILLING CODE 7555-01-M